DEPARTMENT OF THE TREASURY

Internal Revenue Service

26 CFR Part 1

[REG-127380-02]

RIN 1545-BA79

Outbound Liquidations to Foreign Corporations; Hearing Cancellation

AGENCY: Internal Revenue Service (IRS), Treasury.

ACTION: Cancellation of notice of public hearing on proposed rulemaking.

SUMMARY: This document provides notice of cancellation of a public hearing on proposed regulations relating to outbound liquidations to foreign corporations under section 367 of the Internal Revenue Code.

DATES: The public hearing originally scheduled for Tuesday, March 4, 2003, at 10 a.m., is cancelled.

FOR FURTHER INFORMATION CONTACT: Guy R. Traynor of the Regulations Unit, Associate Chief Counsel, Procedure & Administration, at (202) 622-7180 (not a toll-free number).

SUPPLEMENTARY INFORMATION: A notice of proposed rulemaking and notice of public hearing that appeared in the Federal Register on Wednesday, November 20, 2002 (67 FR 70031), announced that a public hearing was scheduled for March 3, 2003 at 10 a.m., in room 4718 of the Internal Revenue Building, 1111 Constitution Avenue NW., Washington, DC. The subject of the public hearing is proposed regulations under section 367 of the Internal Revenue Code. The public comment period for these proposed regulations expired on February 11, 2003.

The notice of proposed rulemaking and notice of public hearing instructed those interested in testifying at the public hearing to submit a request to speak and an outline of the topics to be addressed. As of February 21, 2003, no one has requested to speak. Therefore, the public hearing scheduled for March 3, 2003 is cancelled.

Cynthia E. Grigsby,
Chief, Regulations Unit, Associate Chief Counsel (Procedure and Administration).

[FR Doc. 03-4544 Filed 2-25-03; 8:45 am]

BILLING CODE 4830-01-P